DEPARTMENT OF COMMERCE

National Oceanic and Atmospheric Administration

50 CFR Part 648

[Docket No. 040804229-4300-02; I.D. 121405A]

Magnuson-Stevens Fishery Conservation and Management Act Provisions; Fisheries of the Northeastern United States; Northeast Multispecies Fishery; Modification of the Yellowtail Flounder Landing Limit for Western and Eastern U.S./Canada Areas

AGENCY: National Marine Fisheries Service (NMFS), National Oceanic and Atmospheric Administration (NOAA), Commerce.

ACTION: Temporary rule; yellowtail flounder landing limit.

SUMMARY: NMFS announces that the Administrator, Northeast Region, NMFS (Regional Administrator), is reducing the Georges Bank (GB) yellowtail flounder trip limit from an unlimited amount to 15,000 lb (6,804.1 kg) per trip for Northeast (NE) multispecies Days-at-Sea (DAS) vessels fishing in both the Western and Eastern U.S./Canada Areas. This action is necessary to prevent the GB yellowtail total allowable catch (TAC) from being caught before the end of the 2005 fishing year and to increase the likelihood that the GB yellowtail TAC will be available through the end of the 2005 fishing year on April 30, 2006. This action is being taken to slow the rate of harvest of GB yellowtail flounder under the authority of the Magnuson-Stevens Fishery Conservation and Management Act (Magnuson-Stevens Act).

DATES: Effective 0001 hours local time, December 21, 2005, through April 30, 2006.

FOR FURTHER INFORMATION CONTACT: Mark Grant, Fishery Management Specialist, (978) 281-9145, fax (978) 281-9135.

SUPPLEMENTARY INFORMATION: Regulations governing the GB yellowtail flounder landing limit within the Western and Eastern U.S./Canada Areas are found at 50 CFR 648.85(a)(3)(iv)(C). The regulations authorize vessels issued a valid limited access NE multispecies permit and fishing under a NE multispecies DAS to fish in the U.S./Canada Management Area as defined at § 648.85(a)(1), under specific conditions. The TAC allocation for GB yellowtail flounder for the 2005 fishing year is 4,260 mt (July 7, 2005; 70 FR 39190). When 30 percent of the GB yellowtail flounder TAC is projected to be harvested, the regulations at § 648.85(a)(3)(iv)(D) authorize the Regional Administrator to reduce the yellowtail flounder landing limit for NE multispecies DAS vessels fishing in both the Western and Eastern U.S./Canada Areas to prevent over-harvesting the GB yellowtail TAC allocation.

Based upon vessel monitoring system reports and other available information, the Regional Administrator has determined that over 51 percent (2,172.6 mt) of the GB yellowtail flounder TAC of 4,260 mt has been harvested. Based on current and historic catch rates, it is likely the entire GB yellowtail flounder TAC may be caught before the end of the 2005 fishing year. In order to slow the catch of GB yellowtail flounder to prevent over harvesting and to increase the likelihood that GB yellowtail flounder will be available through the end of the 2005 fishing year on April 30, 2006, the Regional Administrator is reducing the trip limit for GB yellowtail flounder to 15,000 lb (6,804.1 kg) per trip for NE multispecies DAS vessels fishing in both the Western and Eastern U.S./Canada Areas for the remainder of the 2005 fishing year, effective December 21, 2005, through April 30, 2006.

Classification

This action is authorized by 50 CFR part 648 and is exempt from review under Executive Order 12866.

Pursuant to 5 U.S.C. 553(b)(B), the Assistant Administrator finds good cause to waive prior notice and opportunity for public comment for this action, because notice and comment would be impracticable and contrary to the public interest. The regulations under § 648.85(a)(3)(iv)(D) authorize the Regional Administrator to reduce the yellowtail flounder landing limit for NE multispecies DAS vessels fishing in the Western and Eastern U.S./Canada Areas when 30 percent and/or 60 percent of the GB yellowtail flounder TAC has been harvested, to prevent over harvesting of the TAC. Because over 51 percent of the GB yellowtail flounder TAC has been harvested, this action is necessary to immediately slow the rate of harvest of GB yellowtail flounder under the authority of the Magnuson-Stevens Act.

Given the harvest rates during fishing years 2004 and 2005, and the reduced GB yellowtail flounder TAC specified for 2005, the time necessary to provide for prior notice and opportunity for public comment would significantly reduce the ability of the agency to ensure that the 2005 TAC for GB yellowtail flounder is not exceeded during the 2005 fishing year. It was not possible to take this action earlier to provide more time for public comment because of how quickly the GB yellowtail flounder is harvested, the reduced GB yellowtail flounder TAC, and the ability of NMFS to monitor the harvest. Immediately reducing the GB yellowtail flounder trip limit to 15,000 lb (6,804.1 kg) per trip for NE multispecies DAS vessels fishing in both the Western and Eastern U.S./Canada Areas will slow the rate of harvest to a level that will likely prevent the TAC from being exceeded.

Exceeding the 2005 TAC for GB yellowtail flounder would increase mortality of this overfished stock beyond that evaluated during the development of Amendment 13, potentially undermining the rebuilding efforts for this stock. Moreover, should the GB yellowtail flounder TAC be exceeded, any overages would be deducted from the 2006 GB yellowtail flounder TAC. This would result in decreased revenue for the NE multispecies fishery, increased economic impacts to vessels operating in the Western and Eastern U.S./Canada Areas, reduced opportunities to fully harvest the GB haddock and GB cod TAC's in the Eastern U.S./Canada Area (i.e., through the increased possibility of premature closure of the Eastern U.S./Canada Area during the 2006 fishing year due to fully harvesting a reduced GB yellowtail flounder TAC in 2006), a reduced chance of achieving optimum yield in the groundfish fishery, and unnecessary delays to the rebuilding of this overfished stock.

For similar reasons there is good cause, pursuant to 5 U.S.C. 553(d)(3), to waive the entire 30-day delayed effectiveness period for this action. For the reasons specified above, a delay in the effectiveness of the trip limit modification in this rule would prevent the agency from ensuring that the 2005 catch TAC for GB yellowtail flounder specified for the Western and Eastern U.S./Canada Areas would not be exceeded during the 2005 fishing year. Any such delay could lead to the impacts to the fishing industry described above.

The rate of harvest of the GB yellowtail flounder TAC in the Western and Eastern U.S./Canada Areas is updated weekly on the internet at http://www.nero.noaa.gov. Accordingly, the public is able to obtain information that would provide at least some advanced notice of a potential action to prevent the TAC for GB yellowtail flounder from being exceeded during the 2005 fishing year. Further, the potential for this action was considered and open to public comment during the development of Amendment 13. Therefore, any negative effect the waiving of public comment and delayed effectiveness may have on the public is mitigated by these factors.

Authority: 16 U.S.C. 1801 et seq.

Dated: December 19, 2005.
Anne M. Lange,
Acting Director, Office of Sustainable Fisheries, National Marine Fisheries Service.

[FR Doc. 05-24369 Filed 12-19-05; 12:56 pm]

BILLING CODE 3510-22-S